DEPARTMENT OF COMMERCE

National Oceanic and Atmospheric Administration

RIN 0648-XA596

Fisheries of the Caribbean, Gulf of Mexico, and South Atlantic; Reef Fish Fishery of the Gulf of Mexico; Exempted Fishing Permit

AGENCY: National Marine Fisheries Service (NMFS), National Oceanic and Atmospheric Administration (NOAA), Commerce.

ACTION: Notice of receipt of an application for an exempted fishing permit; request for comments.

SUMMARY: NMFS announces the receipt of an application for an exempted fishing permit (EFP) for a collaborative effort among personnel from Texas Tech University, Texas A&M—Corpus Christi, and a commercial fishing organization, Shareholders Alliance. If granted, the EFP would authorize the applicants to collect and retain limited numbers of specimens that would otherwise be prohibited from possession and retention. This study, to be conducted in the exclusive economic zone (EEZ) of the Gulf of Mexico (Gulf), is intended to more closely monitor populations of red snapper and other reef fish to compare relative catch rates and discards between vessels that possess varying amounts of red snapper allocation under the current Gulf red snapper individual fishing quota (IFQ) program.

DATES: Comments must be received no later than 5 p.m., eastern time, on September 12, 2011.

ADDRESSES: You may submit comments on the application by any of the following methods:

• E-mail: Steve.Branstetter@noaa.gov. Include in the subject line of the e-mail comment the following document identifier: ``TTU_EFP”.

• Mail: Steve Branstetter, Southeast Regional Office, NMFS, 263 13th Avenue South, St. Petersburg, FL 33701.

The application and related documents are available for review upon written request to any of the above addresses.

FOR FURTHER INFORMATION CONTACT: Steve Branstetter, 727-824-5305; e-mail: Steve.Branstetter@noaa.gov.

SUPPLEMENTARY INFORMATION: The EFP is requested under the authority of the Magnuson-Stevens Fishery Conservation and Management Act (16 U.S.C. 1801 et seq.), and regulations at 50 CFR 600.745(b) concerning exempted fishing.

The described research is part of an ongoing Cooperative Research Program Cooperative Agreement (No. NA10NMF4540110) funded by NMFS. The research is intended to involve commercial fishermen in the collection of fundamental fisheries information. Resource collection efforts support the development and evaluation of fisheries management and regulatory options.

The proposed collection for scientific research involves activities that could otherwise be prohibited by regulations at 50 CFR part 622, as they pertain to reef fish managed by the Gulf of Mexico Fishery Management Council (Council). The applicants require authorization through the EFP to collect these Council-managed species that may be taken as part of the normal fishing activities of the commercial sector of the Gulf reef fish fishery. The applicant would be conducting this research in cooperation with a commercial fishing organization, Shareholders Alliance, and would involve as many as 30 vessel owners associated with that organization. Observers from Texas Tech University and Texas A&M—Corpus Christi, would document the catch and bycatch of red snapper and other reef fish during normal commercial fishing operations in the Gulf.

The objective of the study is to compare the discard rate of red snapper and the bycatch rates of other fish species in the red snapper commercial handline component of the Gulf reef fish fishery between fishermen with high and low amounts of quota allocation in both the eastern and western Gulf. By tagging discarded fish, and examining the return rates for recaptured tagged fish, the intent of the research is to estimate the delayed mortality rate, and long-term survival, of fish discarded in the commercial sector using vertical line gear in the Gulf reef fish fishery based on depth of capture. Information learned from this study is intended to help fishermen reduce discard mortality rates using new methodologies such as descender hooks to return fish to depth during fishing operations. In addition, sampling for age, growth, and size composition of the catch and bycatch would be conducted, providing additional information that can be used to assess the health of stock.

Additionally, the goal of the research is to improve the scientific knowledge of red snapper and other reef fish taken from state and Federal waters of the Gulf and to use that knowledge to support fishery management decisions. The EFP, if approved, would authorize the take of as many as 1,000 Federally-managed red snapper or other reef fish through July 31, 2012. Such fish, collected as biological samples, would be exempt from size limit regulations, and would not count against an individual fishermen's specific red snapper IFQ allocation.

NMFS finds this application warrants further consideration. Possible conditions the agency may impose on this permit, if it is indeed granted, include but are not limited to, a prohibition of conducting research within marine protected areas, marine sanctuaries, or special management zones, without additional authorization. Additionally, NMFS would prohibit the possession of Nassau or goliath grouper. A report on the research would be due at the end of the collection period, to be submitted to NMFS and reviewed by the Council.

A final decision on issuance of the EFP will depend on NMFS's review of public comments received on the application, consultations with the affected states, the Council, and the U.S. Coast Guard, as well as a determination that the EFP is consistent with all applicable laws.

Authority: 16 U.S.C. 1801 et seq.

Dated: August 8, 2011.
Emily H. Menashes,
Acting Director, Office of Sustainable Fisheries, National Marine Fisheries Service.

[FR Doc. 2011-20596 Filed 8-11-11; 8:45 am]

BILLING CODE 3510-22-P